ENVIRONMENTAL PROTECTION AGENCY

[EPA-HQ-OECA-2018-0249; FRL-9994-60-OMS]

Information Collection Request Submitted to OMB for Review and Approval; Comment Request; NSPS for Greenhouse Gas Emissions for New Electric Utility Generating Units (Renewal)

AGENCY: Environmental Protection Agency (EPA).

ACTION: Notice.

SUMMARY: The Environmental Protection Agency (EPA) has submitted an information collection request (ICR), NSPS for Greenhouse Gas Emissions for New Electric Utility Generating Units (EPA ICR Number 2465.04, OMB Control Number 2060-0685), to the Office of Management and Budget (OMB) for review and approval in accordance with the Paperwork Reduction Act. This is a proposed extension of the ICR, which is currently approved through July 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 1, 2019.

ADDRESSES: Submit your comments, referencing Docket ID Number EPA-HQ-OECA-2018-0249, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Greenhouse Gas Emissions for New Electric Utility Generating Units (40 CFR part 60, subpart TTTT) were proposed on June 2, 2014, and promulgated on October 23, 2015 (80 FR 64510). These regulations apply to newly constructed, modified or reconstructed facilities with electric utility generating units (EGUs) including any steam generating unit, IGCC, or stationary combustion turbine that commenced construction after January 8, 2014 or commenced reconstruction after June 18, 2014. To be considered an EGU the unit must be: (1) Capable of combusting more than 250 MMBtu/h heat input of fossil fuel; and (2) serve a generator capable of supplying more than 25 MW net to a utility distribution system (i.e., for sale to the grid). New facilities include those that commenced construction, modification or reconstruction after the date of proposal. This information is being collected to assure compliance with 40 CFR part 60, subpart TTTT.

In general, all NSPS standards require initial notifications, performance tests, and periodic reports by the owners/operators of the affected facilities. This NSPS imposes a minimal information collection burden on affected sources beyond what sources would already be subject to under the authorities of CAA parts 75 (Acid Rain Program CEM requirements) and 98 (Mandatory GHG Reporting, applicable to EGUs that capture CO2). Apart from certain reporting costs to comply with the emission standards under the rule, there are no additional information collection costs, as the information required by the rule is already collected and reported by other regulatory programs. These notifications, reports, and records are essential in determining compliance, and are required of all affected facilities subject to NSPS.

Form Numbers: None.

Respondents/affected entities: Fossil fuel-fired electric utility steam generating units.

Respondent's obligation to respond: Mandatory (40 CFR part 60, subpart TTTT).

Estimated number of respondents: 32 (total).

Frequency of response: Initially and quarterly.

Total estimated burden: 883 hours (per year). Burden is defined at 5 CFR 1320.3(b).

Total estimated cost: $101,000 (per year), which includes $0 in annualized capital/startup and/or operation & maintenance costs.

Changes in the Estimates: There is an adjustment increase in the total estimated burden as currently identified in the OMB Inventory of Approved Burdens. The change in the burden and cost estimates occurred because these standards have been in effect for more than three years. The previous ICR reflected those burdens and costs associated with the initial activities for subject facilities. This ICR, by in large, reflects the on-going burden and costs for existing facilities. This ICR also assumes that all existing respondents will spend up to 8 hours annually for review of the rule, and will continue to submit quarterly reports. There are no capital or operation and maintenance costs associated with these standards.

Courtney Kerwin,
Director, Regulatory Support Division.

[FR Doc. 2019-11274 Filed 5-29-19; 8:45 am]

BILLING CODE 6560-50-P